DEPARTMENT OF THE INTERIOR

Bureau of Land Management

[19X.LLAK941000 L14100000.ET0000; AA-65513, AA-61299]

Public Land Order No. 7880, Partial Revocation of Public Land Orders No. 5176 and 5179, Alaska

AGENCY: Bureau of Land Management, Interior.

ACTION: Public Land Order.

SUMMARY: This Order partially revokes two Public Land Orders (PLOs) insofar as they affect 217,486 acres of public lands reserved for study and classification as appropriate by the Department of the Interior. The purposes for which these lands were withdrawn no longer exist as described in the analysis and decisions made through the 2007 East Alaska Resource Management Plan (East Alaska RMP).

DATE: This PLO takes effect on July 10, 2019.

FOR FURTHER INFORMATION CONTACT: David V. Mushovic, Bureau of Land Management Alaska State Office, 222 West Seventh Avenue, Mailstop #13, Anchorage, AK 99513-7504, telephone: 907-271-4682, or email: dmushovi@blm.gov. People who use a telecommunications device for the deaf (TDD) may call the Federal Relay Service (FRS) at 1-800-877-8339 to contact Mr. Mushovic during normal business hours. The FRS is available 24 hours a day, 7 days a week, to leave a message or question. You will receive a reply during normal business hours.

SUPPLEMENTARY INFORMATION: This Order follows the recommendations made in the Bureau of Land Management's 2007 East Alaska RMP. The Environmental Impact Statement accompanying the East Alaska RMP serves as the detailed statement required under section 102(2)(C) of the National Environmental Policy Act. PLO No. 5176, as amended, modified, or corrected, withdrew land for selection by Alaska Native Claims Settlement Act (ANCSA) village and regional corporations in the Chugach Region, and for classification. The selection period expired in 1974 making it possible for revocation of this withdrawal on any segregated land still under selection. PLO No. 5179, as amended, modified, or corrected, withdrew lands in aid of legislation concerning addition to or creation of units of the National Park, National Forest, Wildlife Refuge, and Wild and Scenic Rivers Systems, and to allow for classification of the lands. Any additions to or creation of new units of National Parks, National Forests, Wildlife Refuges or Wild and Scenic Rivers from the land withdrawn by PLO No. 5179 were accomplished by the Alaska National Interest Lands Conservation Act of 1980. The classification of the lands withdrawn by PLO No. 5176 and 5179 were satisfied by the analysis conducted during the development of the East Alaska RMP.

Order

By virtue of the authority vested in the Secretary of the Interior by Section 204 of the Federal Land Policy and Management Act of 1976, 43 U.S.C. 1714, and Section 22(h)(4) of the Alaska Native Claims Settlement Act of 1971, 43 U.S.C. 1621(h)(4), it is ordered as follows:

1. Subject to valid existing rights, PLOs No. 5176 (37 FR 5579 (1972)), 5179 (37 FR 5589 (1972)), and any amendments, modifications, or corrections to these orders, if any, are hereby revoked insofar as they affect the following described Federal lands:

Copper River Meridian, Alaska

T. 18 S, R. 15 E, unsurveyed,

secs. 19 thru 36.

T. 16 S, R. 16 E, unsurveyed,

secs. 25 thru 28 and secS, 33 thru 36.

T. 18 S, R. 16 E, unsurveyed,

secs. 1 thru 4, secs, 9 thru 16, and secS, 19 thru 36.

T. 16 S, R. 17 E, unsurveyed,

secs. 19 thru 36, excepting PL 96-487 Wrangell-St. Elias National Park.

T. 17 S, R. 17 E, unsurveyed.

T. 18 S, R. 17 E, unsurveyed.

T. 19 S, R. 17 E, partly unsurveyed,

secs. 1 thru 14, secs. 17 thru 20, secs. 23 thru 26, and secs. 35 and 36.

T. 16 S, R. 18 E, unsurveyed,

secs. 17 thru 20, and sec. 30, excepting PL 96-487 Wrangell-St. Elias National Park.

T. 17 S, R. 18 E, unsurveyed,

secs. 19 thru 23, and secs. 25 thru 36, excepting PL 96-487 Wrangell-St. Elias National Park.

T. 18 S, R. 18 E, unsurveyed,

secs. 1 thru 36, excepting PL 96-487 Wrangell-St. Elias National Park.

T. 18 S, R. 19 E, unsurveyed,

secs. 6 thru 9, secs. 15 thru 22, and secs. 27 thru 34, excepting PL 96-487 Wrangell-St. Elias National Park.

T. 19 S, R. 19 E, unsurveyed,

secs. 2 thru 36, excepting PL 96-487 Wrangell-St. Elias National Park.

T. 20 S, R. 19 E.

T. 19 S, R. 20 E, unsurveyed,

secs. 17 thru 20, and secs. 27 thru 34, excepting PL 96-487 Wrangell-St. Elias National Park.

T. 20 S, R. 20 E, unsurveyed,

secs. 3 thru 10, secs. 15 thru 22, and secs. 27 thru 34, excepting PL 96-487 Wrangell-St. Elias National Park.

T. 21 S, R. 20 E, partly unsurveyed,

secs. 1 thru 3, secs. 10 thru 17, and secs. 20 thru 29.

The areas described aggregate 217,486 acres. Some lands covered by the revocation of the above listed withdrawals as to the lands described above have been top-filed by the State of Alaska per the Alaska Statehood Act.

2. The lands subject to revocation in this Order will not be subject to additional withdrawal by PLO No. 5418, effective March 28, 1974, amending PLO No. 5180.

3. At 8 a.m. AKDT on August 9, 2019, the lands described in Paragraph 1 shall be open to all forms of appropriation under the public land laws, including selection by the State of Alaska under the Alaska Statehood Act, location and entry under the mining laws, leasing under the Mineral Leasing Act of February 25, 1920, as amended, and selection by Regional Corporations under section 12 of the ANCSA, subject to valid existing rights, the provisions of existing withdrawals, other segregations of record, and the requirements of applicable law. All valid applications received at or prior to 8 a.m. AKDT on August 9, 2019, shall be considered as simultaneously filed at that time. Those received thereafter shall be considered in the order of filing. Appropriation of any of the lands referenced in this Order under the general mining laws prior to the date and time of revocation is unauthorized. Any such attempted appropriation, including attempted adverse possession under 30 U.S.C. 38, shall vest no rights against the United States. State law governs acts required to establish a location and to initiate a right of possession where not in conflict with Federal law. The BLM will not intervene in disputes between rival locators over possessory rights since Congress has provided for such determinations in local courts.

Dated: June 26, 2019.
Joseph R. Balash,
Assistant Secretary for Land and Minerals Management.

[FR Doc. 2019-14708 Filed 7-9-19; 8:45 am]

BILLING CODE 4310-JA-P